ENVIRONMENTAL PROTECTION AGENCY

40 CFR Part 745

[EPA-HQ-OPPT-2005-0049; FRL-7775-1]

RIN 2070-AC83

Lead; Renovation, Repair, and Painting Program; Extension of Comment Period

AGENCY: Environmental Protection Agency (EPA).

ACTION: Proposed rule; extension of comment period.

SUMMARY: On January 10, 2006, EPA proposed new requirements to reduce exposure to lead hazards created by renovation, repair, and painting activities that disturb lead-based paint in the Federal Register. The proposal supports the attainment of the Federal government's goal of eliminating childhood lead poisoning by 2010. The proposal discussed requirements for training renovators and dust sampling technicians; certifying renovators, dust sampling technicians, and renovation firms; accrediting providers of renovation and dust sampling technician training; and for renovation work practices. This notice announces a 45-day extension of the comment period for the Renovation, Repair, and Painting Program proposed rule. This extension is necessary to provide the public with an opportunity to review and comment on materials recently added to the docket.

DATES: The comment period previously expiring on April 10, 2006, is extended to May 25, 2006.

ADDRESSES: For detailed instructions on the submission of comments, follow the instructions provided under ADDRESSES in the Federal Register document of January 10, 2006.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Mike Wilson, National Program Chemicals Division (7404T), Office of Pollution Prevention and Toxics, Environmental Protection Agency, 1200 Pennsylvania Ave., NW., Washington, DC 20460-0001; telephone number: (202) 566-0521; e-mail address: wilson.mike@epa.gov.

SUPPLEMENTARY INFORMATION:

I. Does this Action Apply to Me?

The Agency included in the proposed rule a list of those who may be potentially affected by this action. If you have questions regarding the applicability of this action to a particular entity, consult the technical person listed under FOR FURTHER INFORMATION CONTACT.

II. What Action is the Agency Taking?

In the Federal Register of January 10, 2006 (71 FR 1588) (FRL-7755-5), EPA proposed new requirements to reduce exposure to lead hazards created by renovation, repair, and painting activities that disturb lead-based paint. In addition, EPA announced in the Federal Register of March 2, 2006 (71 FR 10628) (FR 7762-7), the availability of supplemental materials added to the docket. EPA has received requests for extension of the comment period from Owens Corning, National Multi Housing Council, National Association of Home Builders, Painting and Decorating Contractors of America, National Association of Realtors, National Paint and Coatings Association, and Atrium Environmental Health and Safety Services.

To allow additional time for comment EPA is extending the comment period established in the Federal Register issued on January 10, 2006 (71 FR 1588), for an additional 45 days. As extended, the comment period for this proposal expires May 25, 2006. Prior to this extension, the comment period was scheduled to expire on April 10, 2006.

III. What is the Agency's Authority for Taking this Action?

The training, certification and accreditation requirements and work practice standards were proposed pursuant to the authority of TSCA section 402(c)(3), 15 U.S.C. 2682(c)(3), as amended by Title X of the Housing and Community Development Act of 1992, Public Law 102-550 (also known as the Residential Lead-Based Paint Hazard Reduction Act of 1992). The Model State Program and amendments to the regulations on the authorization of State and Tribal programs with respect to renovators and dust sampling technicians were proposed pursuant to section 404 of TSCA, 15 U.S.C. 2684.

IV. Do Any Statutory and Executive Order Reviews Apply to this Action?

No. This action is not a rulemaking, it merely extends the date by which public comments must be submitted on a proposed rule that EPA published in the Federal Register of January 10, 2006 (71 FR 1588). For information about the applicability of the regulatory assessment requirements to the proposed rule, please refer to the discussion in Unit VIII. of that document (at 71 FR 1620).

List of Subjects in Part 745

Environmental protection, Housing renovation, Lead, Lead-based paint, Reporting and recordkeeping requirements.

Dated: March 31, 2006.
Margaret Schneider,
Acting Assistant Administrator, Office of Prevention, Pesticides and Toxic Substances.

[FR Doc. E6-4998 Filed 4-5-06; 8:45 am]

BILLING CODE 6560-50-S